DEPARTMENT OF THE INTERIOR

National Park Service

Study Recommending a Timbisha Shoshone Tribal Homeland In and Around Death Valley National Park, Inyo County, California and Esmeralda and Nye Counties, Nevada; Notice of Intent To Prepare a Legislative Environmental Impact Statement

SUMMARY: Under the provisions of the National Environmental Policy Act of 1969 (P.L. 91-190) and the California Desert Protection Act (P.L. 103-433, Title VII, § 705), the National Park Service has initiated an environmental impact analysis process for a Secretarial Report to Congress regarding a proposal to establish a permanent Timbisha Shoshone Tribal Homeland in and around Death Valley National Park. Furthermore, regulations created by the Council on Environmental Quality (40 CFR 1508) provide that any “proposal for legislation” must be accompanied by an environmental impact statement. (42 U.S.C.A. section 4332(2)c.). A Legislative Environmental Impact Statement (LEIS) is an abbreviated version of an Environmental Impact Statement which may be prepared on an expedited timetable to ensure proper consideration in Congressional hearings and deliberations.

Background

The U.S. Department of the Interior (Department) is considering the transfer of federal lands and acquisition of private lands to be held in trust for the Timbisha Shoshone Tribe. The transfers and acquisitions are for the purposes of creating a tribal homeland in and around Death Valley National Park.

The initial Notice of Scoping was published in the Federal Register on April 19, 1999 (V64, N74, PP19193-19194) announcing public meetings and other scoping activities so as to initiate an environmental impact analysis process for the Draft Secretarial Report to Congress. The Secretary of the Interior's draft report, The Timbisha Shoshone Tribal Homeland-A Draft Secretarial Report to Congress to Establish a Permanent Tribal Land Base and Related Cooperative Activities was released for public comment in May 1999.

Over 500 comments were received through July 1999, and the responses addressed a spectrum of regulatory, socio-economic and environmental issues. On September 20, 1999 the Final Scoping Summary Document was released to the public characterizing the nature of public response and comment letters received on the Draft Secretarial Report.

In October 1999, the Department determined that the National Park Service would serve as the lead agency. The Bureau of Land Management, Bureau of Reclamation, Bureau of Indian Affairs, the U.S. Fish and Wildlife Service, and Nye County, Nevada have been cooperators to this project.

Alternatives

In addition to a no-action alternative, the proposed action is primarily to recommend that Congress authorize the transfer of several parcels of lands as identified in the Draft Secretarial Report currently managed by NPS and BLM in California and Nevada. Authorization for the Department to expend appropriated funds for the purchase of several parcels of private land from willing sellers in California and Nevada is also being proposed. All transacted lands would be taken into trust for the Timbisha Shoshone Tribe by the Secretary of the Interior.

For Current Information

Written communications may be addressed to the Superintendent, Death Valley National Park, Post Office Box 579, Death Valley, California 92328. For current information about the ongoing LEIS effort, please contact: Joan DeGraff, Project Manager, (760) 255-8830, or utilize the park website (www.nps.gov/deva).

Approval Process

The Department officials responsible for approval are: the Assistant Secretary Fish, Wildlife and Parks; the Assistant Secretary for Land and Minerals Management; and the Assistant Secretary for Indian Affairs. If approved, the proposal would subsequently be submitted by the Secretary of the Interior to Congress for consideration. If enacted, the National Park Service officials responsible for implementation would be the Superintendent, Death Valley National Park and the Regional Director, Pacific West Region; as well as the State Directors, Bureau of Land Management, Nevada and California; the Assistant Secretary for Indian Affairs; and the Bureau of Indian Affairs, Central California Agency. The draft LEIS is expected to be available for public review in spring, 2000. At this time it is anticipated that the final LEIS will be completed in summer, 2000.

Dated: March 6, 2000.
John J. Reynolds,
Regional Director, Pacific West Region.

[FR Doc. 00-6112 Filed 3-10-00; 8:45 am]

BILLING CODE 4310-70-P